DEPARTMENT OF THE INTERIOR

Bureau of Indian Affairs

25 CFR Part 70

RIN 1076-AD98

Certificate of Degree of Indian or Alaska Native Blood

AGENCY: Bureau of Indian Affairs, Interior.

ACTION: Proposed rule; notice of meeting and extension of comment period.

SUMMARY: On April 18, 2000, the Bureau of Indian Affairs published a proposed rule in the Federal Register (65 FR 20775), to establish documentation requirements and standards for filing, processing, and issuing a Certificate of Degree of Indian or Alaska Native Blood (CDIB) by the Bureau of Indian Affairs. This notice announces the time and place of the consultation and extends the comment period.

DATES: The consultation will be held on June 29, 2000, 9 a.m. to 4 p.m., local time. The comment period is extended from July 17, 2000 to August 16, 2000.

ADDRESSES: The consultation will be held at the Silver Legacy Resort, 407 North Virginia Street, Reno, Nevada 89501; telephone (775) 325-7143 or toll-free telephone number (800) 687-7733.

FOR FURTHER INFORMATION CONTACT: Karen Ketcher, Branch of Tribal Operations, Eastern Oklahoma Region, Department of the Interior, Bureau of Indian Affairs, 101 North 5th Street, Muskogee, OK 74401. You may also hand-deliver comments to us at Room 426, at the same address. For information about filing comments electronically, see the SUPPLEMENTARY INFORMATION section of the Federal Register published on April 18, 2000.

SUPPLEMENTARY INFORMATION: In keeping with Executive Order 13084, “Consultation with Indian Tribes,” we are scheduling an additional consultation session on Thursday, June 29, 2000, beginning at 9 a.m. (and ending at approximately 4 p.m.) local time. The topic of discussion will be the proposed Certificate of Degree of Indian or Alaska Native Blood (CDIB) rules as published in the Federal Register on April 18, 2000 (65 FR 20775).

The meeting is open to the public, and all comments will be recorded and included in the record. We will go over the bases of the need for the proposed CDIB rule and briefly discuss the proposed new subparts 70.1 through 70.38, as well as the information collection procedures proposed for implementation of the proposed rule. This session is being held primarily for Indian tribal representatives from the states of Arizona, California, Nevada, Oregon, Utah, and Washington to attend. Indian tribal representatives who are interested but were not able to attend previous sessions held in Anchorage, Alaska (April 14), Rapid City, South Dakota (May 10) or Albuquerque, New Mexico (May 24) are also invited to attend. Oral and written comments given by individuals and organizations who attended previous sessions are part of the record.

Written comments and recommendations previously submitted for the record will be considered, along with any new testimony or comments. We ask that individuals who previously commented allow other persons the opportunity to provide their comments for the record.

Persons who wish to testify at the June 29 session are requested to observe the following: (1) In order to assist the transcriber and to ensure an accurate record, please give the transcriber a copy of your prepared testimony; (2) In order to assist us in preparing appropriate responses or answers to your questions, and if you plan to testify, please submit an advance copy of your testimony to us at the address specified below, and plan to have a copy available for the transcriber. However, submission of an advance copy of your testimony is not required.

In response to requests from Indian tribes at our earlier public consultation sessions, we are extending the comment period an additional 30 days from the time period first announced in the Federal Register on April 18, 2000 (65 FR 20775). Therefore, comments must be received on or before August 16, 2000.

Dated: June 13, 2000.
Kevin Gover,
Assistant Secretary—Indian Affairs.

[FR Doc. 00-15497 Filed 6-19-00; 8:45 am]

BILLING CODE 4310-02-P